COMMISSION ON CIVIL RIGHTS

Agenda and Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that a briefing meeting of the Connecticut Advisory Committee to the Commission will convene at 9:30 a.m. (EST) on Tuesday, February 7, 2017, in the Old Judiciary Room of the Capitol Building, 210 Capitol Avenue, Hartford, CT 06106.

DATES: Tuesday, February 7, 2017 (EST). at 9:30 a.m.—Briefing Meeting and Public Session

ADDRESSES: Old Judiciary Room of the Capitol Building, 210 Capitol Avenue, Hartford, CT 06106.

FOR FURTHER INFORMATION CONTACT: Barbara Delaviez at ero@usccr.gov, or 202-376-7533.

SUPPLEMENTARY INFORMATION: The purpose of the briefing meeting is to examine the issue of solitary confinement in Connecticut correctional facilities. The Committee will hear from elected officials, correction officials, advocates, former inmates, and family members of incarcerated prisoners. The public is invited to the meeting and encouraged to address the committee following the presentations.

If other persons who plan to attend the meeting require other accommodations, please contact Evelyn Bohor at ebohor@usccr.gov at the Eastern Regional Office at least ten (10) working days before the scheduled date of the meeting.

Time will be set aside at the end of the briefing so that members of the public may address the Committee after the formal presentations have been completed. Persons interested in the issue are also invited to submit written comments; the comments must be received in the regional office by Tuesday, March 7, 2017. Written comments may be mailed to the Eastern Regional Office, U.S. Commission on Civil Rights, 1331 Pennsylvania Avenue, Suite 1150, Washington, DC 20425, faxed to (202) 376-7548, or emailed to Evelyn Bohor at ebohor@usccr.gov. Persons who desire additional information may contact the Eastern Regional Office at (202) 376-7533.

Records and documents discussed during the meeting will be available for public viewing as they become available at http://facadatabase.gov/committee/meetings.aspx?cid=239 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Tentative Agenda

Welcome and Introductions

David J. McGuire, Chair, Connecticut Advisory Committee

Opening Statement

David J. McGuire, Chair, Connecticut Advisory Committee

Briefing Meeting

Panel I—Elected Officials and Correction Officials

Panel II—Professors, Advocates, and former inmates and family members of prisoners.

Dated: January 12, 2016.
David Mussatt,
Supervisory Chief, Regional Programs Unit.

[FR Doc. 2017-01127 Filed 1-18-17; 8:45 am]

BILLING CODE 6335-01-P